DEPARTMENT OF THE INTERIOR

National Park Service

[NPS-WASO-NAGPRA-NPS0038878; PPWOCRADN0-PCU00RP14.R50000]

Notice of Inventory Completion: Willamette University, Salem, OR

AGENCY: National Park Service, Interior.

ACTION: Notice.

SUMMARY: In accordance with the Native American Graves Protection and Repatriation Act (NAGPRA), Willamette University has completed an inventory of human remains and has determined that there is a cultural affiliation between the human remains and Indian Tribes or Native Hawaiian organizations in this notice.

DATES: Repatriation of the human remains in this notice may occur on or after November 14, 2024.

ADDRESSES: Emilio Solano, Willamette University, 900 State Street, Salem, OR 97209, telephone (503) 370-6027, email easolano@willamette.edu.

SUPPLEMENTARY INFORMATION: This notice is published as part of the National Park Service's administrative responsibilities under NAGPRA. The determinations in this notice are the sole responsibility of Willamette University, and additional information on the determinations in this notice, including the results of consultation, can be found in its inventory or related records. The National Park Service is not responsible for the determinations in this notice.

Abstract of Information Available

Human remains representing, at least, one individual have been identified. No associated funerary objects are present. The osteological elements from one individual include a mandible, four teeth, two radii, two humeri, five vertebrae, and one femur. There is no known acquisition history of the ancestral remains, but the preponderance of the evidence suggests that either W.S. Laughlin or John Rademaker disturbed and acquired these remains. There were no markings, labels, or other documentation found with this individual. The geographic location is unknown but is likely associated with the Willamette Valley, Oregon mounds excavated by Laughlin or near The Dalles, Oregon site excavation by Rademaker. Cultural affiliation is unknown but likely the Confederated Tribes of Grand Ronde, Confederated Tribes of Siletz Indians, or Confederated Tribes of the Warm Springs based on information available, including archeological, geographical, and historical. The remains have not been tested for the presence of any potentially hazardous substances.

Cultural Affiliation

Based on the information available and the results of consultation, cultural affiliation is reasonably identified by the geographical location or acquisition history of the human remains and associated funerary objects described in this notice.

Determinations

Willamette University has determined that:

• The human remains described in this notice represent the physical remains of one individual of Native American ancestry.

• There is a connection between the human remains described in this notice and the Confederated Tribes of Siletz Indians of Oregon; Confederated Tribes of the Grand Ronde Community of Oregon; and the Confederated Tribes of the Warm Springs Reservation of Oregon.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after November 14, 2024. If competing requests for repatriation are received, Willamette University must determine the most appropriate requestor prior to repatriation. Requests for joint repatriation of the human remains are considered a single request and not competing requests. Willamette University is responsible for sending a copy of this notice to the Indian Tribes and Native Hawaiian organizations identified in this notice.

Authority: Native American Graves Protection and Repatriation Act, 25 U.S.C. 3003, and the implementing regulations, 43 CFR 10.10.

Dated: October 4, 2024.
Melanie O'Brien,
Manager, National NAGPRA Program.

[FR Doc. 2024-23719 Filed 10-11-24; 8:45 am]

BILLING CODE 4312-52-P